DEPARTMENT OF ENERGY

Federal Energy Regulatory Commission

[Docket Nos. RP98-44-000 and GP98-38-000]

EL Paso Natural Gas Company, Vastar Gas Marketing, Inc. and Atlantic Richfield Company; Notice of Settlement Agreement

May 24, 2001.

Take notice that on May 16, 2001, El Paso Natural Gas Company (El Paso), Vastar Gas Marketing, Inc. (Vastar) and Atlantic Richfield Company (ARCO) (collectively referred to as the Signatory Parties) filed, for the Commission's approval a Settlement Agreement (Settlement) under Rule 602 of the Commission's Rules of Practice and Procedure in the captioned dockets. A copy of the Settlement is available for public inspection in the Commission's Public Reference Room and may be viewed on the web at http://www.ferc.fed.us/online/rims.htm (call 202-208-2222 for assistance).

Signatory Parties state that the Settlement resolves the Kansas ad valorem refund claims raised by El Paso against Vastar and ARCO. El Paso originally sought refunds of approximately $6.6 million from Vastar and/or ARCO. The Settlement resolves these claims, and the related defense of Vastar and ARCO, in exchange for Vastar's and ARCO's lump sum payment of $4.1 million. In addition, the Settlement will result in the full and complete release of Vastar's and ARCO's claims against its royalty owners with respect to Kansas ad valorem tax refunds on El Paso's system, and the termination of all related proceedings pending before the Commission as they relate to EL Paso's claims.

Initial comments are due June 5, 2001; relay comments are due June 15, 2001.

Davis P. Boergers,
Secretary.

[FR Doc. 01-13593 Filed 5-30-01; 8:45 am]

BILLING CODE 6717-01-M